DEPARTMENT OF HOUSING AND URBAN DEVELOPMENT

[Docket No. FR-5681-N-18]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Brenda Carignan, Department of Agriculture, Reporters Building, 300 7th Street SW., Room 337, Washington, DC 20024, (202) 401-0787; Air Force: Mr. Robert Moore, Air Force Real Property Agency, 2261 Hughes Avenue, Suite 156, Lackland AFB, TX, 78236-9852, (210) 395-9512; Coast Guard: Commandant, United States Coast Guard, Attn: Jennifer Stomber, 2100 Second St. SW., Stop 7901, Washington, DC 20593-0001; (202) 475-5609; GSA: Mr. Flavio Peres, General Services Administration, Office of Real Property Utilization and Disposal, 1800 F Street NW., Room 7040 Washington, DC 20405, (202) 501-0084; Navy: Mr. Steve Matteo, Department of the Navy, Asset Management Division, Naval Facilities Engineering Command, Washington Navy Yard, 1330 Patterson Ave. SW., Suite 1000, Washington, DC 20374; (202) 685-9426; (This is not toll-free numbers).

Dated: April 25, 2013.
Mark Johnston,
Deputy Assistant Secretary for Special Needs.

TITLE V, FEDERAL SURPLUS PROPERTY PROGRAM, FEDERAL REGISTER REPORT FOR 05/03/2013

Suitable/Available Properties

Building

Colorado

Pagosa JCC Bunkhouse

3939 Piedra Rd.

Pagosa Springs CO 81147

Landholding Agency: Agriculture

Property Number: 15201320002

Status: Excess

Comments: 48 yrs.-old; 1 floor; 120 months vacant; very poor conditions

New Jersey

Portion of former Sievers-Sandberg US Army Reserves Center (Camp Pedricktown)

Artillery Ave at Garrison St.

Oldmans NJ 08067

Landholding Agency: GSA

Property Number: 54201320003

Status: Surplus

GSA Number: 1-D-NJ-0662-AB

Directions: On the north side of Rte 130, between Perkintown Road (Rte 644) and Pennsgove-Pedricktown Rd (Rte 642)

Comments: #171; mess hall bldg. #173; 14,282 total sf.; fair/poor conditions; asbestos/lead-based paint; potential legal constraints in accessing property; Contact GSA for more info.

New York

Former Leso-Leano US Army Reserve Center

500 Massey St. South

Watertown NY 13601

Landholding Agency: GSA

Property Number: 54201320004

Status: Surplus

GSA Number: 1-D-NY-0698

Directions: On Massey St So, corner of Pine St and Ten Eyck St W.

Comments: off/admin. bldg. = 25,025 sf; oper./veh. maint. bldg. = 2,400 sf.; asbestos/lead-based paint; bldgs. locked—entry by appt. with GSA; contact GSA for more info.

Land

Wisconsin

TACAN Annex

6400 Block of Lake Rd.

Windsor WI 53598

Landholding Agency: GSA

Property Number: 54201320005

Status: Excess

GSA Number: 1-D-WI-611

Comments:

1 acre; moderate conditions

Suitable/Unavailable Properties

Building

Virginia

Building 641

216 Hunting Ave.

Hampton VA 23681

Landholding Agency: GSA

Property Number: 54201320006

Status: Excess

GSA Number: 4-Z-VA-0602-A1

Comments: 11,671 total sf.; office; fair/moderate conditions; existing Federal need

Unsuitable Properties

Building

Arizona

7 Buildings

Davis Monthan AFB

Tucson AZ 85707

Landholding Agency: Air Force

Property Number: 18201310042

Status: Underutilized

Directions: 145, 4101, 4857, 4858, 5122, 5313, 5315

Comments: military installation; public access denied & no alternative w/out compromising nat'l security

Reasons: Secured Area

Georgia

8 TACTS

U.S. Navy

Savannah GA

Landholding Agency: Navy

Property Number: 77201320002

Status: Unutilized

Directions: Tactical Air Combat Training System towers

Comments: located 55 to 103 miles offshore; accessible by boat only

Reasons: Other—offshore; Not accessible by road

New Jersey

US Coast Guard Shark River

125 Washington Ave.

Avon by the Sea NJ 07717

Landholding Agency: Coast Guard

Property Number: 88201320002

Status: Excess

Comments: located on secured active military installation; public access denied & no alternative method to gain access w/out compromising nat'l security

Reasons: Secured Area

New Mexico

Building 442

401 N. Chindit Blvd.

Cannon AFB NM 88103

Landholding Agency: Air Force

Property Number: 18201320002

Status: Unutilized

Comments: AF controlled installation; public access denied & no alternative method to gain access w/out compromising nat'l security

Reasons: Secured Area

North Carolina

Sewer Pump Station 65

1664 Weeksville Rd.

Elizabeth City NC 27909

Landholding Agency: Coast Guard

Property Number: 88201320001

Status: Excess

Comments: located w/in secured military facility; public access denied & no alternative method to gain access w/out compromising nat'l security

Reasons: Secured Area

[FR Doc. 2013-10217 Filed 5-2-13; 8:45 am]

BILLING CODE 4210-67-P